DEPARTMENT OF HEALTH AND HUMAN SERVICES

Centers for Disease Control and Prevention

[30Day-23-22IU]

Agency Forms Undergoing Paperwork Reduction Act Review

In accordance with the Paperwork Reduction Act of 1995, the Centers for Disease Control and Prevention (CDC) has submitted the information collection request titled “Evaluation of Healthcare Worker Mental Health Campaign” to the Office of Management and Budget (OMB) for review and approval. CDC previously published a “Proposed Data Collection Submitted for Public Comment and Recommendations” notice on November 16, 2022 to obtain comments from the public and affected agencies. CDC received three comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Evaluation of Healthcare Worker Mental Health Campaign—New—National Institute for Occupational Safety and Health (NIOSH), Centers for Disease Control and Prevention (CDC).

Background and Brief Description

As part of the COVID-19 American Rescue Plan of 2021, in response to a congressional mandate, and on the heels of the passage of the Dr. Lorna Breen Health Care Provider Protection Act, the National Institute for Occupational Safety and Health (NIOSH), within the Centers for Disease Control and Prevention (CDC), is taking an active stance to address mental health concerns among the more than 20 million workers in the nation's healthcare sector. For many years now, health workers have reported feeling undervalued, overworked, and overwhelmed. A 2012 study that surveyed more than 7,000 physicians found that nearly half of them had symptoms of burnout. The COVID-19 pandemic has only exacerbated the strain and pressure facing health workers as they endure unprecedented challenges that make working in this field exponentially harder on their own health and wellbeing. So much so that the wellbeing of those who dedicate their days and nights to keeping us healthy has surpassed a point of crisis. Depression, anxiety, and PTSD are highly prevalent among health workers across the United States. A systematic review of studies addressing burnout among nurses found that more than a third (34.1%) had emotional exhaustion. A 2020 survey of healthcare workers found that 86% reported experiencing anxiety, and 39% did not feel like they had adequate emotional support.

NIOSH, the federal agency tasked with conducting research to contribute to reductions in occupational illnesses, injuries, and hazards, and its contractor, JPA Health, plan to develop, implement, and evaluate a social marketing campaign that aims to raise health worker and healthcare executive awareness of mental health risks, promote help seeking and treatment among health workers experiencing burnout and job-related distress, reduce stigma associated with health workers' mental health help seeking, and establish organizational policies and practices that support worker mental health. For NIOSH, this project requires more than a messaging campaign and aims to marry communications best practices with behavior and systems change strategies to start addressing the working conditions that contribute to job-related distress, structural barriers that prevent health workers from seeking help, and healthcare executives from providing mental health services and supports.

While many individual-level interventions specific to healthcare and healthcare workers exist, very few interventions address the organizational level causes of health worker burnout. It is for this reason that we are proposing a one year approval to collect follow-up survey data. This will allow us to examine whether hospital leader and healthcare worker exposure to, and engagement with, campaign activities and messages contribute to changes in their knowledge, beliefs, and practices thought to promote healthcare worker mental health and well-being.

The surveys will include a representative sample of healthcare workers and hospital leaders that hail from relevant partner network organizations of the All In: Wellbeing First for Healthcare network. The goal is a representative sample of 3,000 healthcare workers and 500 hospital leaders. Assuming a 25% response rate, JPA/EDC must include 12,000 healthcare workers and 2,000 hospital leaders in the initial sample. The survey will be completed at eight and 10 months after campaign launch. Half the representative sample will be drawn at each data collection period. Both the healthcare worker and hospital leader surveys should take no more than 10 minutes to complete.

The version of the information collection available during previous public comment period included a quasi-experimental study with 12 hospitals (six intervention and six comparison) and pre-post surveys and interviews. Due to logistical challenges and time constraints, the quasi-experimental study has been discontinued. CDC now requests OMB approval for an estimated 2,333 annual burden hours. There is no cost to respondents other than their time to participate.

Estimated Annualized Burden Hours
Type of respondents | Form name | Number of respondents | Number of responses per respondent | Average burden per response (in hours)
Healthcare Worker | Follow-up Survey | 12,000 | 1 | 10/60
Hospital Leader | Follow-up Survey | 2,000 | 1 | 10/60

Jeffrey M. Zirger,
Lead, Information Collection Review Office, Office of Scientific Integrity, Office of Science, Centers for Disease Control and Prevention.

[FR Doc. 2023-08570 Filed 4-21-23; 8:45 am]

BILLING CODE 4163-18-P